COMMISSION ON CIVIL RIGHTS

Hearing on Allegations of Voting Irregularities in the Presidential Election on November 7, 2000

AGENCY: Commission on Civil Rights.

ACTION: Amended notice of hearings.

SUMMARY: Notice is hereby given pursuant to the provisions of the Civil Rights Commission Amendments Act of 1994, Section 3, Public Law 103-419, 108 Stat. 4338, as amended, and 45 CFR 702.3., that public hearings before the U.S. Commission on Civil Rights will commence on Thursday, January 11, 2001, beginning at 9 a.m., in the morning in Tallahassee, FL, and on subsequent days in Miami, FL, Jacksonville, FL, and Tampa, FL. The January 11 and 12, 2001, hearing will take place at the Holiday Inn Select Hotel, 316 West Tennessee Street, Tallahassee, Florida 32301. The purpose of these hearings is to collect information within the jurisdiction of the Commission, under Public Law 98-183, Section 5(a)(1) and Section 5(a)(5), related particularly to allegations that eligible persons in Florida were denied the right to vote or to have their votes properly counted in the election of the Presidential electors on November 7, 2000.

The original notice for the hearings was announced in the Federal Register on Wednesday, December 13, 2000, FR Doc. 00-31904, Vol. 65, No. 2401, p. 77850.

The Commission is authorized to hold hearings and to issue subpoenas for the production of documents and the attendance of witnesses pursuant to 45 CFR 701.2. The Commission is an independent bipartisan, fact finding agency authorized to study, collect, and disseminate information, and to appraise the laws and policies of the Federal Government, and to study and collect information with respect to discrimination or denials of equal protection of equal protection of the laws under the Constitution because of race, color, religion, sex, age, disability, or national origin, or in the administration of justice. The Commission has broad authority to investigate allegations of voting irregularities even when alleged abuses do not involve discrimination.

Hearing impaired persons who will attend the hearings and require the services of a sign language interpreter, should contact Pamela Dunston, Administrative Services and Clearinghouse Division at (202) 376-8105 (TDD (202) 376-8116), at least five (5) working days before the scheduled date of the hearings.

FOR FURTHER INFORMATION CONTACT: Les Jin, Office of the Staff Director (202) 376-7700.

Dated December 28, 2000.
Edward A. Hailes, Jr.,
Acting General Counsel.

[FR Doc. 01-142 Filed 1-3-01; 8:45 am]

BILLING CODE 6335-01-M